DEPARTMENT OF LABOR

Employment and Training Administration

Notice of Availability of Funds and Solicitation for Grant Applications for Face Forward—Serving Juvenile Offenders

AGENCY: Employment and Training Administration, Labor.

ACTION: Notice of Solicitation for Grant Applications (SGA).

Funding Opportunity Number: SGA/DFA PY-12-09

SUMMARY: The U.S. Department of Labor (we, the Department or DOL) Employment and Training Administration (ETA), announces the availability of approximately $26 million in grant funds authorized by the Workforce Investment Act.

Under this solicitation, DOL expects to award 26 grants for up to $1,000,000 each to cover a 39-month period of performance, which includes a planning period of up to six months, program operation period of 24 months, and a minimum of nine months of post program support and follow-up services provided to each participant. Any non-profit organization with IRS 501(c)(3) status, unit of state or local government, or any Indian and Native American entity eligible for grants under WIA Section 166, may apply for these grants to provide services to eligible participants in areas with high-poverty and high-crime rates. These services will include diversion and/or expungement (required for all participants), case management, mentoring, education, training leading to industry-recognized credentials for in demand industries and occupations in the State or local area, service-learning, workforce activities, and post-program support and follow-up services.

The complete SGA and any subsequent SGA amendments in connection with this solicitation are described in further detail on ETA's Web site at http://www.doleta.gov/grants/ or on http://www.grants.gov. The Web sites provide application information, eligibility requirements, review and selection procedures, and other program requirements governing this solicitation.

DATES: The closing date for receipt of applications under this announcement is May 10, 2013. Applications must be received no later than 4:00:00 p.m. Eastern Time.

FOR FURTHER INFORMATION CONTACT: Mamie Williams, 200 Constitution Avenue NW., Room N-4716, Washington, DC 20210; Telephone: 202-693-3341.

Signed March 29, 2013 in Washington, DC
Donna Kelly,
Grant Officer, Employment and Training Administration.

[FR Doc. 2013-07791 Filed 4-3-13; 8:45 am]

BILLING CODE 4510-FN-P